NUCLEAR REGULATORY COMMISSION

[Docket Nos. 50-280 and 50-281; NRC-2018-0280]

Virginia Electric and Power Company; Dominion Energy Virginia; Surry Power Station, Unit Nos. 1 and 2

AGENCY: Nuclear Regulatory Commission.

ACTION: Final supplemental environmental impact statement.

SUMMARY: The U.S. Nuclear Regulatory Commission (NRC) has published a final plant-specific supplement, Supplement 6, Second Renewal, to the Generic Environmental Impact Statement (GEIS) for License Renewal of Nuclear Plants, NUREG-1437, regarding the subsequent renewal of Facility Operating License Nos. DPR-32 and DPR-37 for an additional 20 years of operation for Surry Power Station, Unit Nos. 1 and 2, respectively (Surry). Surry is located in Surry County, Virginia.

DATES: The final Supplement 6, Second Renewal to the GEIS is available as of April 6, 2020.

ADDRESSES: Please refer to Docket ID NRC-2018-0280 when contacting the NRC about the availability of information regarding this document. You may obtain publicly-available information related to this document using any of the following methods:

• Federal Rulemaking Website: Go to https://www.regulations.gov/ and search for Docket ID NRC-2018-0280. Address questions about NRC docket IDs in Regulations.gov to Jennifer Borges; telephone: 301-287-9127; email: Jennifer.Borges@nrc.gov. For technical questions contact the individual listed in the FOR FURTHER INFORMATION CONTACT section of this document.

• NRC's Agencywide Documents Access and Management System (ADAMS): You may access publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to https://www.nrc.gov/reading-rm/pdr.html. The final Supplement 6, Second Renewal is available in ADAMS under Accession No. ML20071D538.

Due to national emergency associated with COVID-19 situation, the staff is unable to mail CDs of the Surry final SEIS to those addressees with mailing addresses listed in Chapter 8 of the final SEIS. The staff encourages these addressees to visit the NRC's NUREG-Series Publication website (https://www.nrc.gov/reading-rm/doc-collections/nuregs/staff/) to download an electronic copy. You may also obtain an electronic copy of the final SEIS by contacting Mr. Tam Tran via email (Tam.Tran@nrc.gov).

FOR FURTHER INFORMATION CONTACT: Tam Tran, Office of Nuclear Material Safety and Safeguards, U.S. Nuclear Regulatory Commission, Washington, DC 20555-0001; telephone: 301-415-3617, email: Tam.Tran@nrc.gov.

SUPPLEMENTARY INFORMATION:

I. Background

In accordance with section 51.118 of title 10 of the Code of Federal Regulations (10 CFR), the NRC is making available final Supplement 6, Second Renewal to NUREG-1437, regarding the renewal of Virginia Electric and Power Company; Dominion Energy Virginia (Dominion), operating licenses DPR-32 and DPR-37 for an additional 20 years of operation for Surry Power Station, Unit Nos. 1 and 2 (Surry). A Notice of Availability of Draft Supplement 6, Second Renewal to NUREG-1437 was published in the Federal Register on October 25, 2019 (84 FR 57417 and 84 FR 56488), by the Environmental Protection Agency. The public comment period on draft Supplement 6, Second Renewal to NUREG-1437 ended on December 10, 2019, and the comments received are addressed in final Supplement 6, Second Renewal to NUREG-1437.

II. Discussion

As discussed in Chapter 5 of final Supplement 6, Second Renewal to NUREG-1437, the NRC staff determined that the adverse environmental impacts of subsequent license renewal for Surry are not so great that preserving the option of subsequent license renewal for energy-planning decisionmakers would not be unreasonable. This recommendation is based on: (1) The analysis and findings in the GEIS; (2) information provided in the environmental report and other documents submitted by Dominion; (3) consultation with Federal, State, Tribal, and local agencies; (4) the NRC staff's independent environmental review; and (5) consideration of public comments received during the scoping process and on the draft Supplemental Environmental Impact Statement.

Dated: April 6, 2020.
For the Nuclear Regulatory Commission.
Robert B. Elliott,
Chief, Environmental Review License Renewal Branch, Division of Rulemaking, Environmental, and Financial Support, Office of Nuclear Material Safety and Safeguards.

[FR Doc. 2020-07560 Filed 4-9-20; 8:45 am]

BILLING CODE 7590-01-P